DEPARTMENT OF LABOR

Office of the Secretary

Submission for OMB Review: Comment Request

May 25, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: Requests for Examination and/or Treatment.

OMB Number: 1215-0066.

Form Number: LS-1.

Frequency: On occasion.

Type of Response: Reporting.

Affected Public: Individuals or households.

Number of Respondents: 16,200.

Annual Reponses: 101,250.

Average Response Time: 65 minutes.

Total Annual Burden Hours: 109,350.

Total Annualized Capital/Startup Costs: $0.

Total Annual Costs (Operating/Maintaining Systems or Purchasing Services): $40,500.

Description: Under section 7 (33 U.S.C., chapter 18, section 907) of the Longshore Act the employer/insurance carrier is responsible for furnishing medical care for the injured employee for such period of time as the injury or recovery period may require. Form LS-1 serves two purposes: it authorizes the medical care and provides a vehicle for the treating physician to report the findings, treatment given and anticipated physical condition of the employee.

Agency: Employment Standards Administration.

Type of Review: Extension of currently approved collection.

Title: Notice of Recurrence.

OMB Number: 1215-0167.

Form Number: CA-2a.

Frequency: 1 time per recurrence.

Type of Response: Reporting.

Affected Public: Individuals or households.

Number of Respondents: 708.

Annual Reponses: 708.

Average Response Time: 30 minutes.

Total Annual Burden Hours: 354.

Total Annualized Capital/Startup Costs: $0.

Total Annual Costs (Operating/Maintaining Systems or Purchasing Services): $0.

Description: In accordance with 5 CFR 10.121, this form is used by current, or occasionally former, Federal employees to claim wage loss or medical treatment resulting from a recurrence of a work-related injury while federally employed. The information is necessary to ensure the accurate payment of benefits.

Ira L. Mills,
Departmental Clearance Officer.

[FR Doc. 05-11034 Filed 6-2-05; 8:45 am]

BILLING CODE 4510-CF-P